DEPARTMENT OF STATE

[Public Notice: 9250]

Bureau of Political-Military Affairs, Directorate of Defense Trade Controls: Notifications to the Congress of Proposed Commercial Export Licenses

AGENCY: Department of State.

ACTION: Notice.

SUMMARY: Notice is hereby given that the Department of State has forwarded the attached Notifications of Proposed Export Licenses to the Congress on the dates indicated on the attachments pursuant to sections 36(c) and 36(d), and in compliance with section 36(f), of the Arms Export Control Act.

DATES: Effective Date: As shown on each of the 38 letters.

FOR FURTHER INFORMATION CONTACT: Ms. Lisa V. Aguirre, Directorate of Defense Trade Controls, Department of State, telephone (202) 663-2830; email DDTCResponseTeam@state.gov. ATTN: Congressional Notification of Licenses.

SUPPLEMENTARY INFORMATION: Section 36(f) of the Arms Export Control Act (22 U.S.C. 2778) mandates that notifications to the Congress pursuant to sections 36(c) and 36(d) must be published in the Federal Register when they are transmitted to Congress or as soon thereafter as practicable.

Following are such notifications to the Congress:

October 29, 2014 (Transmittal No. DDTC 14-118)

Honorable John A. Boehner, Speaker of the House of Representatives

Dear Mr. Speaker:

Pursuant to Section 36(c) of the Arms Export Control Act, I am transmitting, the certification of a proposed license for the export of defense articles, to include technical data, and defense services in the amount of $100,000,000 or more.

The transaction contained in the attached certification involves the transfer of defense articles to support the Direct Commercial Contract (DCC) of the Joint Direct Attack Munition (JDAM) and Small Diameter Bomb (SDB) for the Israel Ministry of Defense.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

October 3, 2014 (Transmittal No. DDTC 14-082)

Honorable John Boehner, Speaker of the House of Representatives

Dear Mr. Speaker:

Pursuant to Sections 36(c) and 36(d) of the Arms Export Control Act, I am transmitting the enclosed certification of a proposed license for the manufacture of significant military equipment abroad and the export of defense articles, including technical data, and defense services in the amount of $50,000,000 or more.

The certification relates to the export of defense articles including technical data, technical assistance, defense articles, and manufacturing know-how involving the co-production of 30mm x 113mm and 25mm x 137mm ammunition with the Government of the Kingdom of Saudi Arabia.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

October 3, 2014 (Transmittal No. DDTC 14-085)

Honorable John Boehner, Speaker of the House of Representatives

Dear Mr. Speaker:

Pursuant to Section 36(c) of the Arms Export Control Act, I am transmitting certification of a proposed license for the export of firearm parts and components controlled under Category I of the United States Munitions List in the amount of $1,000,000 or more.

The attached certification involves the export of Sig Sauer P229 pistols and 15 round magazines to the Ministry of Interior (MOI) in Abu Dhabi, UAE.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

October 2, 2014 (Transmittal No. DDTC 14-060)

Honorable John Boehner, Speaker of the House of Representatives

Dear Mr. Speaker:

Pursuant to Section 36(c) of the Arms Export Control Act, I am transmitting the enclosed certification of a proposed amendment to a technical assistance agreement for the export of defense articles, including technical data, and defense services in the amount of $50,000,000 or more.

The transaction contained in the attached certification transfers defense articles, including technical data, and defense services to provide engineering and logistical support that will extend the useful life for multiple fixed wing and rotary wing aircraft to include the AU-23, F-16, F-5, RTAF-6, and C-130 aircraft for end use by the Government of Thailand.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

October 03, 2014 (Transmittal No. DDTC 14-074)

Honorable John Boehner, Speaker of the House of Representatives

Dear Mr. Speaker:

Pursuant to Section 36(c) of the Arms Export Control Act, I am transmitting the enclosed certification of a proposed license for the export of defense articles, including technical data, and defense services in the amount of $100,000,000 or more.

The attached certification involves the export of defense articles, including technical data, and defense services to Canada, France, Israel, the Republic of Korea and the United Kingdom to support the integration, installation, operation, training, testing, maintenance, repair and modernization of the P-3C avionics and mission systems for the Republic of Korea.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

October 2, 2014 (Transmittal No. DDTC 14-077)

Honorable John Boehner, Speaker of the House of Representatives

Dear Mr. Speaker:

Pursuant to Section 36(c) of the Arms Export Control Act, I am transmitting the enclosed certification of a proposed license for the export of defense articles, to include technical data, and defense services in the amount of $50,000,000 or more.

The transaction contained in the attached certification involves the transfer of defense articles, to include technical data, and defense services to Canada, Indonesia, and Spain to support the design, development, manufacturing, and delivery of the BRISat communication satellite.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

October 2, 2014 (Transmittal No. DDTC 14-097)

Honorable John Boehner, Speaker of the House of Representatives

Dear Mr. Speaker:

Pursuant to Section 36(c) of the Arms Export Control Act, I am transmitting the enclosed certification of a proposed license for the export of defense articles, to include technical data, and defense services in the amount of $50,000,000 or more.

The transaction contained in the attached certification involves the transfer of defense articles, to include technical data, and defense services to support the integration of the Turkmenistan National Satellite System of Communications with the Falcon 9 launch vehicle.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

October 2, 2014 (Transmittal No. DDTC 14-098)

Honorable John Boehner, Speaker of the House of Representatives

Dear Mr. Speaker:

Pursuant to Section 36(c) of the Arms Export Control Act, I am transmitting the enclosed certification of a proposed license for the export of defense articles, including technical data, and defense services in the amount of $25,000,000 or more.

The transaction contained in the attached certification involves the export of defense articles, including technical data, and defense services to Canada to support the development, production, and test of the APS-508 Radar System for the CP-140 Aircraft Program.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

October 03, 2014 (Transmittal No. DDTC 14-081)

Honorable John Boehner, Speaker of the House of Representatives

Dear Mr. Speaker:

Pursuant to Section 36(d) of the Arms Export Control Act, I am transmitting certification for the manufacture abroad of significant military equipment and the export of defense articles, including technical data, defense services in the amount of $100,000,000 or more.

The attached certification involves the export of defense articles and technical data to Brazil, Canada, the Czech Republic, Denmark, France, Germany, Hungary, Malaysia, South Africa, Sweden, Switzerland, Thailand and the United Kingdom for the manufacture of F404-RM12 gas turbine military aircraft engine parts and components.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

October 03, 2014 (Transmittal No. DDTC 14-079)

Honorable Bob Corker, Committee on Foreign Relations

Dear Mr. Corker:

Pursuant to Section 36(d) of the Arms Export Control Act, I am transmitting certification of a proposed license for the export of defense articles, including technical data, and defense services for the manufacture of significant military equipment abroad.

The transaction contained in the attached certification involves the export of technical data and defense services to the Republic of Korea to support the replication and incorporation of object code of the Have Quick I/II ECCM waveform into Software Complaint Architecture SCA-compliant radio equipment.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

September 30, 2014 (Transmittal No. DDTC 14-076)

Honorable John A. Boehner, Speaker of the House of Representatives

Dear Mr. Speaker:

Pursuant to Section 36(c) of the Arms Export Control Act, I am transmitting the enclosed certification of a proposed export of defense articles, including technical data, and defense services in the amount of $50,000,000 or more.

The certification relates to the export of defense articles, including technical data, and defense services to support for the design, manufacture, and launch of the Eutelsat E65WA communication satellite program.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

September 25, 2014 (Transmittal No. DDTC 14-023)

Honorable John A. Boehner, Speaker of the House of Representatives

Dear Mr. Speaker:

Pursuant to Section 36(c) and 36(d) of the Arms Export Control Act, I am transmitting, herewith, certification of a proposed license amendment for the manufacture of significant military equipment abroad and the export of defense articles, including technical data, and defense services in the amount of $50,000,000 or more.

The transaction contained in the attached certification involves the export of defense articles, including technical data, and defense services to the United Kingdom for the manufacture, assembly, modification, integration, repair, and overhaul of Vertical Gyros, Rate Gyros, Attitude Heading Reference Systems, Compass Systems, Azimuth Gyros, and Attitude Indicators.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

September 16, 2014 (Transmittal No. DDTC 14-043)

Honorable John A. Boehner, Speaker of the House of Representatives

Dear Mr. Speaker:

Pursuant to Section 36(c) of the Arms Export Control Act, I am transmitting, herewith, certification of a proposed license for the export of defense articles, to include technical data, and defense services in the amount of $100,000,000 or more.

The transaction contained in the attached certification involves the transfer of defense articles, to include technical data, and defense services to support the integration of the Joint Direct Attack Munition (JDAM) onto Royal Australian Air Force (RAAF) aircrafts.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

September 16, 2014 (Transmittal No. DDTC 14-051)

Honorable John A. Boehner, Speaker of the House of Representatives

Dear Mr. Speaker:

Pursuant to Section 36(c) of the Arms Export Control Act, I am transmitting, herewith, certification of a proposed authorization for the export of firearm parts and components controlled under Category I of the United States Munitions List in the amount of $1,000,000 or more.

The transaction contained in the attached certification involves the export of defense articles, including technical data, and defense services for the assembly of firearms parts and components by Dasan, Republic of Korea for commercial resale in the U.S.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

September 16, 2014 (Transmittal No. DDTC 14-054)

Honorable John A. Boehner, Speaker of the House of Representatives

Dear Mr. Speaker:

Pursuant to Section 36(c) of the Arms Export Control Act, I am transmitting, herewith, certification of a proposed license amendment for the export of defense articles, including technical data, and defense services in the amount of $50,000,000 or more.

The transaction contained in the attached certification involves the export of defense articles, including technical data, and defense services for support to aircraft navigation equipment including Control Stick Assemblies, Rate Sensor Assemblies, and Accelerometer Sensor Assemblies for the T-50, T-50i, and FA-50 aircraft for end-use by Chile, Indonesia, Iraq, the Philippines, the Republic of Korea, Thailand, Turkey, and the United Kingdom.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

September 25, 2014 (Transmittal No. DDTC 14-062)

Honorable John A. Boehner, Speaker of the House of Representatives

Dear Mr. Speaker:

Pursuant to Section 36(c) of the Arms Export Control Act, I am transmitting, herewith, certification of a proposed license for export of firearm parts and components controlled under Category I of the United States Munitions List in the amount of $1,000,000 or more.

The transaction contained in the attached certification involves the export of defense articles to Mexico's Secretariat of National Defense (SEDENA) for the resale of semi-automatic rifles and pistols to Mexican military or police agencies/departments in Mexico.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

September 16, 2014 (Transmittal No. DDTC 14-078)

Honorable John A. Boehner, Speaker of the House of Representatives

Dear Mr. Speaker:

Pursuant to Section 36(c) of the Arms Export Control Act, I am transmitting, herewith, certification of a proposed license for the export of defense articles, to include technical data, and defense services in the amount of $50,000,000 or more.

The transaction contained in the attached certification involves the transfer of defense articles, to include technical data, and defense services in support of the design, manufacture, test and delivery of the Thaicom-8 Commercial Communication Satellite, ground system and the dynamic satellite simulator.

The United States government is prepared to license the export of this defense service having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

September 16, 2014 (Transmittal No. DDTC 14-089)

Honorable John A. Boehner, Speaker of the House of Representatives

Dear Mr. Speaker:

Pursuant to Section 36(c) of the Arms Export Control Act, I am transmitting, herewith, certification of a proposed technical assistance agreement for the export of technical data, and defense services in the amount of $50,000,000 or more.

The transaction contained in the attached certification transfers technical data and defense services to Singapore to support the development of an 8 x 8 wheeled amphibious combat vehicle for end use by the United States Marine Corps.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

September 16, 2014 (Transmittal No. DDTC 14-096)

Honorable John A. Boehner, Speaker of the House of Representatives

Dear Mr. Speaker:

Pursuant to Section 36(c) of the Arms Export Control Act, I am transmitting, herewith, certification of a proposed license for the export of firearm parts and components controlled under Category I of the United States Munitions List in the amount of $1,000,000 or more.

The transaction contained in the attached certification involves the export of R4A3 carbine rifles, fully automatic, caliber 5.56mm x 45 NATO/.223 Remington for use by the Armed Forces of the Philippines.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

September 09, 2014 (Transmittal No. DDTC 14-067)

Honorable Joseph R. Biden, Jr., President of the Senate

Dear Mr. President:

Pursuant to Section 36(c) of the Arms Export Control Act, I am transmitting, herewith, certification of a proposed authorization for the export of firearms, parts, and components controlled under Category I of the United States Munitions List in amount of $1,000,000 or more.

The transaction contained in the attached certification involves the export of .50 caliber rifles and telescope sights to the Secretary of National Defense, Mexico.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

September 09, 2014 (Transmittal No. DDTC 14-038)

Honorable Joseph R. Biden, Jr., President of the Senate

Dear Mr. President:

Pursuant to Sections 36(c) and 36(d) of the Arms Export Control Act, I am transmitting, herewith, certification of a proposed export for the manufacture of significant military equipment abroad and for the export of defense articles, including technical data, and defense services in the amount of $50,000,000 or more.

The transaction contained in the attached certification involves the export of defense articles, including technical data, and defense services to the Republic of Korea for the manufacture, assembly, inspection and testing of F404-GE-102 engines for the T-50, TA-50, and FA-50 aircraft series for end use by various countries.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

August 12, 2014 (Transmittal No. DDTC 14-040)

Honorable John A. Boehner, Speaker of the House of Representatives

Dear Mr. Speaker:

Pursuant to Section 36(d) of the Arms Export Control Act, I am transmitting, herewith, certification of a proposed license amendment for the export of defense articles, including technical data, and defense services for the manufacture of significant military equipment abroad.

The transaction contained in the attached certification involves the export of technical data and defense services to Sweden to support the manufacture, integration, installation, operation and testing of the RLS20 Laser Transmitter and subassemblies.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

August 06, 2014 (Transmittal No. DDTC 14-055)

Honorable John A. Boehner, Speaker of the House of Representatives

Dear Mr. Speaker:

Pursuant to Section 36(c) of the Arms Export Control Act, I am transmitting, herewith, certification of a proposed license amendment for the export of defense articles, including technical data, and defense services in the amount of $50,000,000 or more.

The transaction contained in the attached certification involves the export of defense articles, including technical data, and defense services to the United Arab Emirates, France and the United Kingdom to support the integration, operation, training, testing, repair and operational level maintenance of the Maverick AGM-65 Weapons System and Paveway II, Paveway III, Enhanced Paveway II and Enhanced Paveway III Weapons Systems for use on the Blackhawk, Rafale, Cougar, Puma, Super Puma, F-16 Block 60, Hawk 100 Series, Mirage 2000, Apache AH-64 and Air Tractor 802 aircraft for end use by the United Arab Emirates' Air Defense Force and Air Force.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

August 26, 2014 (Transmittal No. DDTC 14-065)

Honorable Joseph R. Biden, Jr., President of the Senate

Dear Mr. President:

Pursuant to Section 36(c) of the Arms Export Control Act, I am transmitting, herewith, certification of a proposed license for the export of firearm parts and components controlled under Category I of the United States Munitions List in the amount of $1,000,000 or more.

The transaction contained in the attached certification involves the export of pistols for the Turkish Armed Forces.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

August 26, 2014 (Transmittal No. DDTC 14-072)

Honorable John A. Boehner, Speaker of the House of Representatives

Dear Mr. Speaker:

Pursuant to Section 36(c) of the Arms Export Control Act, I am transmitting, herewith, certification of a proposed amendment to a technical assistance agreement for the export of defense articles, including technical data, and defense services in the amount of $50,000,000 or more.

The transaction contained in the attached certification involves the export of defense articles, including technical data, and defense services to the Mexican, Secretaria De La Defensa Nacional for the acquisition of twelve new T-6C aircraft along with maintenance, training, and logistics support that include the ground based training system, spare inventory, and other support items for the aircraft.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

August 26, 2014 (Transmittal No. DDTC 14-073)

Honorable John A. Boehner, Speaker of the House of Representatives

Dear Mr. Speaker:

Pursuant to Section 36(d) of the Arms Export Control Act, I am transmitting, herewith, certification of a proposed license amendment for the export of defense articles, including technical data, and defense services for the manufacture of significant military equipment abroad.

The transaction contained in the attached certification involves the export of defense articles, including technical data, and defense services to Japan to support the manufacture, testing, sale, and repair of the APX-119 Airborne Identification Friend or Foe (IFF) Transponder for end use by the Japan Self-Defense Forces.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

August 06, 2014 (Transmittal No. DDTC 14-086)

Honorable John A. Boehner, Speaker of the House of Representatives

Dear Mr. Speaker:

Pursuant to Section 36(c) of the Arms Export Control Act, I am transmitting, herewith, certification of a proposed license for the export of firearms, parts, and components controlled under Category I of the United States Munitions List in the amount of $1,000,000 or more.

The transaction contained in the attached certification involves the export of Colt Modular Rifles and accessories to the Director General of Police Operations in India.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

January 28, 2015 (Transmittal No. DDTC 14-113)

Honorable John A. Boehner, Speaker of the House of Representatives

Dear Mr. Speaker:

Pursuant to Section 36(c) of the Arms Export Control Act, I am transmitting certification of a proposed license for the export of defense articles, including technical data, and defense services in the amount of $100,000,000 or more.

The transaction contained in the attached certification involves the export of defense articles, including technical data, and defense services to the Government of Japan for the assembly, testing, inspection, calibration, troubleshooting, use, installation, maintenance, overhaul, repair, and sale of parts and components for use on the F100 series of military jet engines owned and operated by the Japanese Ministry of Defense.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Acting Assistant Secretary, Legislative Affairs.

February 04, 2015 (Transmittal No. DDTC 14-120)

Honorable John A. Boehner, Speaker of the House of Representatives

Dear Mr. Speaker:

Pursuant to Section 36(c) and 36(d) of the Arms Export Control Act, I am transmitting certification of an amendment to a manufacturing license agreement for the export of defense articles, including technical data, and defense services in the amount of $100,000,000 or more.

The transaction contained in the attached certification involves the export of defense articles, including technical data, defense services, and manufacture know-how for the design and manufacture of the Sikorsky S-70i helicopter.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

January 28, 2015 (Transmittal No. DDTC 14-123)

Honorable John A. Boehner, Speaker of the House of Representatives

Dear Mr. Speaker:

Pursuant to Section 36(c) of the Arms Export Control Act, I am transmitting certification of a proposed license for the export of defense articles, including technical data, and defense services in the amount of $50,000,000 or more.

The transaction contained in the attached certification proposes to transfer defense articles, including technical data, and defense services to support the sale of 24 Archangel Intelligence, Surveillance and Reconnaissance (“ISR”) Border Patrol Aircraft to the government of the United Arab Emirates.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

January 26, 2015 (Transmittal No. DDTC 14-127)

Honorable John A. Boehner, Speaker of the House of Representatives

Dear Mr. Speaker:

Pursuant to Section 36(c) of the Arms Export Control Act, I am transmitting certification of a proposed license amendment for the export of defense articles, to include technical data, and defense services in the amount of $50,000,000 or more.

The transaction contained in the attached certification involves the transfer of defense articles, to include technical data, and defense services for upgrade of current Swiss simulator training devices to reflect the same configuration as Swiss F/A-18 aircraft to support the F/A-18 Tactical Operational Flight Trainer Program for Switzerland.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

January 28, 2015 (Transmittal No. DDTC 14-128)

Honorable John A. Boehner, Speaker of the House of Representatives

Dear Mr. Speaker:

Pursuant to Section 36(c) of the Arms Export Control Act, I am transmitting certification of proposed license for the export of defense articles, including technical data, and defense services in the amount of $100,000,000 or more.

The transaction contained in the attached certification involves the export of defense articles, including technical data, and defense services to the Government of Pakistan in support of maintenance, repair, and overhaul at the Organizational, Intermediate, and Depot Levels of F100 engines owned and operated by the Pakistan Air Force.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Acting Assistant Secretary, Legislative Affairs.

January 26, 2015 (Transmittal No. DDTC 14-130)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export of Sig Sauer Model P229 Pistols to Trinidad and Tobago for use by the Trinidad and Tobago Police Service.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

February 27, 2015 (Transmittal No. DDTC 14-131)

Honorable John A. Boehner, Speaker of the House of Representatives

Dear Mr. Speaker:

Pursuant to Section 36(c) of the Arms Export Control Act, I am transmitting certification of a proposed license for the export of defense articles, including technical data, and defense services in the amount of $50,000,000 or more.

The transaction contained in the attached certification involves the transfer of defense articles, including technical data, and defense services to Brazil, Canada, and Spain for design, develop, manufacture, test, launch, and orbit rising of Hispasat 1F commercial communications satellite.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

January 26, 2015 (Transmittal No. DDTC 14-137)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export of semi-automatic pistols, semi-automatic rifles, magazines, and accessories to Poland for commercial resale in Poland only.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

February 17, 2015 (Transmittal No. DDTC 14-146)

Honorable John A. Boehner, Speaker of the House of Representatives

Dear Mr. Speaker:

Pursuant to Section 36(c) of the Arms Export Control Act, I am transmitting certification of a proposed license for the export of defense articles, including technical data, and defense services in the amount of $50,000,000 or more.

The transaction contained in the attached certification involves the export of High Mobility Multi-Purpose Wheeled Vehicles (HMMWVs), including technical data, and defense services to the Government of Iraq.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

February 27, 2015 (Transmittal No. DDTC 14-150)

Honorable John A. Boehner, Speaker of the House of Representatives

Dear Mr. Speaker:

Pursuant to Section 36(c) of the Arms Export Control Act, I am transmitting certification of a proposed license for the export of defense articles, including technical data, and defense services in the amount of $100,000,000 or more.

The transaction contained in the attached certification involves the export of defense articles, including technical data, and defense services for the procurement of an additional one (1) C-17A Globemaster III transport aircraft including associated spares, support equipment, and aircrew and maintenance training for end-use by the Armed Forces of Canada.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

February 06, 2015 (Transmittal No. DDTC 14-152)

Honorable John A. Boehner, Speaker of the House of Representatives

Dear Mr. Speaker:

Pursuant to Section 36(c) of the Arms Export Control Act, I am transmitting certification of a proposed license for the export of defense articles, including technical data, and defense services in the amount of $50,000,000 or more.

The transaction contained in the attached certification involves the export of (12) MD-530F Attack Helicopters, which includes the integration, testing, procurement, modification, and installation of a weapon system onto the helicopters.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary, Legislative Affairs.

Dated: August 24, 2015.
Lisa V. Aguirre,
Director of Management, Directorate of Defense Trade Controls, U.S. Department of State.

[FR Doc. 2015-21646 Filed 8-31-15; 8:45 am]

BILLING CODE 4710-25-P